FEDERAL COMMUNICATIONS COMMISSION

47 CFR Part 73

[DA 03-2468; MB Docket No. 03-116]

Radio Broadcasting Services; Archer City, TX

AGENCY: Federal Communications Commission.

ACTION: Final rule.

SUMMARY: As the result of a proposal by the Commission, this document substitutes Channel 248C2 for Channel 248C1 at Archer City, Texas. This will conform the FM Table of Allotments to the outstanding construction permit of Texas Grace Communications for Station KRZB, Channel 248C2, Archer City, Texas (BMPH-19900217IB). See 68 FR 26556, published May 16, 2003. The reference coordinates for the Channel 248C2 allotment at Archer City, Texas, are 33-51-40 and 98-38-52. With this action, the proceeding is terminated.

DATES: Effective September 8, 2003.

FOR FURTHER INFORMATION CONTACT: Robert Hayne, Mass Media Bureau, (202) 418-2177.

SUPPLEMENTARY INFORMATION: This is a synopsis of the Commission's Report and Order in MM Docket No. 03-116, adopted July 30, 2003, and released August 1, 2003. The full text of this decision is available for inspection and copying during normal business hours in the FCC's Reference Information Center at Portals II, CY-A257, 445 12th Street, SW., Washington, DC.

The complete text of this decision may also be purchased from the Commission's copy contractor, Qualex International, Portals ll, 445 12th Street, SW., Room CY-B402, Washington, DC 20554, telephone 202-863-2893, facsimile 202-863-2898, or via e-mail qualexint@aol.com.

List of Subjects in 47 CFR Part 73

Radio, Radio broadcasting.

Part 73 of Title 47 of the Code of Federal Regulations is amended as follows:

PART 73—RADIO BROADCAST SERVICES

1. The authority citation for part 73 continues to read as follows:

Authority: 47 U.S.C. 154, 303, 334 and 336.

§ 73.202 [Amended]

2. Section 73.202(b), the Table of FM Allotments under Texas, is amended by removing Channel 248C1 and by adding Channel 248C2 at Archer City.

Federal Communications Commission.
Peter H. Doyle,
Chief, Audio Division, Media Bureau.

[FR Doc. 03-20214 Filed 8-7-03; 8:45 am]

BILLING CODE 6712-01-P